DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of four individuals and four entities whose property and interests in property have been blocked pursuant to the Foreign Narcotics Kingpin Designation Act (“Kingpin Act”) (21 U.S.C. 1901-1908, 8 U.S.C. 1182).

DATES: The designation by the Acting Director of OFAC of the four individuals and four entities identified in this notice pursuant to section 805(b) of the Kingpin Act is effective on January 19, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On January 19, 2012, the Acting Director of OFAC designated the following four individuals and four entities whose property and interests in property are blocked pursuant to section 805(b) of the Kingpin Act.

Individuals

1. CHACON ROSSELL, Marllory Dadiana, DOB 04 OCT 1972; POB Guatemala City, Guatemala; nationality Guatemala; (INDIVIDUAL) [SDNTK]

2. BORRAYO LASMIBAT, Hayron Eduardo (A.K.A. “Eduardo BORRAYO LISMIBAT”), DOB 03 May 1972; Passport Number 22222838; citizen Guatemala; (INDIVIDUAL) [SDNTK]

3. FERNANDEZ CARBAJAL, Jorge Andres, DOB 26 Feb 1958; Passport 14098; POB Honduras; nationality Honduran; (INDIVIDUAL) [SDNTK]

4. HERNANDEZ DE BORRAYO, Mirza Silvana, DOB 30 Mar 1974; POB Guatemala; Passport 008818499; Nationality Guatemalan; (INDIVIDUAL) [SDNTK]

Entities

1. ANDREA YARI S.A. (a.k.a. ANDREAYARI, S.A.), C/O Jorge Andres FERNANDEZ CARBAJAL, 2 Calle 6AVE, Barrio El Centro San Pedro Sula, Cortes, Honduras, Registration RUC 45476-12-300189; Republic of Panama; (ENTITY) [SDNTK]

2. FER'SEG S.A., C/O Jorge Andres FERNANDEZ CARBAJAL, 2 Calle 6AVE, Barrio El Centro San Pedro Sula, Cortes, Honduras, Registration 160766, Republic of Panama; (ENTITY) [SDNTK]

3. BINGOTON MILLONARIO, c/o Mirza Silvana HERNANDEZ DE BORRAYO, Sarafi 3 Avenida 13-46 Zona 1, Guatemala, Guatemala; (ENTITY) [SDNTK]

4. REVOLUCIONES POR MINUTO ACELERACION S.A. (a.k.a. “RPM ACELERACION”) c/o Mirza Silvana HERNANDEZ DE BORRAYO 20 Calle 26-30, Zona 10, Guatemala, Guatemala; Registration NIT 3197607-7; (ENTITY) [SDNTK]

Dated: January 19, 2012.
John E. Smith,
Acting Director, Office of Foreign Assets Control.

[FR Doc. 2012-1766 Filed 1-26-12; 8:45 am]

BILLING CODE 4810-AL-P